TENNESSEE VALLEY AUTHORITY

Meeting of the TVA Regional Resource Stewardship Council

AGENCY: Tennessee Valley Authority (TVA).

ACTION: Notice of meeting.

SUMMARY: The TVA Regional Resource Stewardship Council (RRSC) will hold a meeting on October 11 and October 12 to obtain views and advice on the topic of the dry conditions in the Tennessee Valley and TVA's drought management plan.

The RRSC was established to advise TVA on its natural resource stewardship activities. Notice of this meeting is given under the Federal Advisory Committee Act, 5 U.S.C. App. 2, (FACA).

The TVA Regional Resource Stewardship Council will hear opinions and views of citizens by providing a public comment session. The public comment session will be held at 9:30 a.m. on Friday, October 12. Persons wishing to speak are requested to register at the door by 9 a.m. EDT on October 12 and will be called on during the public comment period. Handout materials should be limited to one printed page. Written comments are also invited and may be mailed to the Regional Resource Stewardship Council, Tennessee Valley Authority, 400 West Summit Hill Drive, WT 11B, Knoxville, Tennessee 37902.

DATES: The meeting will be held on Thursday, October 11, 2007, from 8:30 a.m. to 4:45 p.m. EDT and on Friday, October 12, 2007, from 8:30 a.m. to 12:30 a.m. EDT.

ADDRESSES: The meeting will be held in the Auditorium of the TVA Headquarters at 400 West Summit Hill Drive, Knoxville, Tennessee 37902, and will be open to the public. Anyone needing special access or accommodations should let the contact below know at least a week in advance.

FOR FURTHER INFORMATION CONTACT: Catherine Mackey, 400 West Summit Hill Drive, WT 11B, Knoxville, Tennessee 37902, (865) 632-4077.

Dated: September 20, 2007.
Peyton T. Hairston, Jr.,
Senior Vice President, Corporate Responsibility & Diversity, Tennessee Valley Authority.

[FR Doc. E7-19088 Filed 9-26-07; 8:45 am]

BILLING CODE 8120-08-P